DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for Geographic Partnership Programs.

Form Number(s): Various.

OMB Control Number: 0607-0795.

Type of Request: Extension of a currently approved collection.

Burden Hours: 557,930.

Number of Respondents: 10,154.

Average Hours Per Response: 55 hours.

Needs and Uses: The U.S. Census Bureau requests approval from OMB for a three-year extension of the generic clearance entitled Geographic Partnership Programs (GPPs) that will cover a number of activities needed to update the Master Address File/ Topologically Integrated Geographic Encoding and Referencing (MAF/TIGER) database (MTdb) with associated address and geographic information. The information to be collected in these programs in cooperation with tribal, state, and local governments and other partners, are essential to the mission of the Census Bureau and directly contributes to the successful outcome of censuses and surveys conducted by the Census Bureau. The generic clearance will allow the Census Bureau to focus its limited resources on actual operational planning, development of procedures, and implementation of programs to update and improve the geographic information maintained in the MTdb.

Census will follow the protocol of past generic clearances: submit clearance requests at least two weeks before the planned start of each activity that give more exact details, examples of forms, and final estimates of respondent burden. A year-end summary will be filed with OMB after the close of each fiscal year giving results of each activity conducted.

The following categories of activities are included under the clearance:

—Local Update of Census Addresses (LUCA) Appeals.

—New Construction Program.

—Redistricting Data Program.

—Participant Statistical Areas Program and Tribal Statistical Areas Program (PSAP and TSAP).

—Traffic Analysis Zones (TAZs) Program.

—School District Review Program (SDRP).

All activities listed above directly support the Census Bureau's efforts to maintain its geographic database (addresses, features, and political and statistical boundaries) in partnership with local agencies nationwide. Because tribal, state, and local governments have current knowledge of and data about where housing growth and change are occurring in their jurisdictions, their input into the overall development of the address list for the census makes a vital contribution. Similarly, those governments are in the best position to work with geographic boundaries, and benefit themselves when their address list is complete and data tabulation areas are drawn to the highest possible level of accuracy.

Affected Public: State, local or tribal Governments.

Frequency: One time.

Respondent's Obligation: Voluntary.

Legal Authority: Title 13 United States Code, Sections 16,141, and 193.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: January 29, 2009.
Gwellnar Banks,
Management Analyst, Office of the Chief Information Officer.

[FR Doc. E9-2229 Filed 2-2-09; 8:45 am]

BILLING CODE 3510-07-P